DEPARTMENT OF HEALTH AND HUMAN SERVICES

National Institutes of Health

Center for Scientific Review; Amended Notice of Meeting

Notice is hereby given of a change in the meeting of the Center for Scientific Review Special Emphasis Panel, February 16, 2017, 02:00 p.m. to February 16, 2017, 03:30 p.m., National Institutes of Health, 6701 Rockledge Drive, Bethesda, MD 20892 which was published in the Federal Register on January 26, 2017, 82 FR 8537.

The meeting will be held at JW Marriott New Orleans, 614 Canal Street, New Orleans, LA 70130.

The meeting date and time remain the same. The meeting is closed to the public.

Dated: January 26, 2017.
Michelle Trout,
Program Analyst, Office of Federal Advisory Committee Policy.

[FR Doc. 2017-02153 Filed 1-31-17; 8:45 am]

BILLING CODE 4140-01-P